DEPARTMENT OF ENERGY

Federal Energy Regulatory Commission

Combined Notice of Filings

Take notice that the Commission has received the following Natural Gas Pipeline Rate and Refund Report filings:

Filings Instituting Proceedings

Docket Numbers: CP23-25-000.

Applicants: Southern Natural Gas Company, L.L.C.

Description: Southern Natural Gas Company, L.L.C submits Abbreviated Application for Authorization to Abandon Services Under Certificate of Public Convenience and Necessity under CP23-25.

Filed Date: 12/13/2022.

Accession Number: 20221213-5057.

Comment Date: 5 p.m. ET 1/3/23.

Docket Numbers: RP23-280-000.

Applicants: Guardian Pipeline, L.L.C.

Description: § 4(d) Rate Filing: Negotiated PAL Koch Energy Services, LLC GN0822 to be effective 12/14/2022.

Filed Date: 12/14/22.

Accession Number: 20221214-5030.

Comment Date: 5 p.m. ET 12/27/22.

Docket Numbers: RP23-281-000.

Applicants: Southern Natural Gas Company, L.L.C.

Description: § 4(d) Rate Filing: Georgia Pacific Negotiated Rate to be effective 12/15/2022.

Filed Date: 12/14/22.

Accession Number: 20221214-5042.

Comment Date: 5 p.m. ET 12/27/22.

Docket Numbers: RP23-282-000.

Applicants: Florida Gas Transmission Company, LLC.

Description: § 4(d) Rate Filing: New Service Agreements—Brotman to be effective 1/1/2023.

Filed Date: 12/14/22.

Accession Number: 20221214-5048.

Comment Date: 5 p.m. ET 12/27/22.

Docket Numbers: RP23-283-000.

Applicants: Florida Gas Transmission Company, LLC.

Description: § 4(d) Rate Filing: Update Non-Conforming List—Brotman to be effective 1/1/2023.

Filed Date: 12/14/22.

Accession Number: 20221214-5049.

Comment Date: 5 p.m. ET 12/27/22.

Docket Numbers: RP23-284-000.

Applicants: Alliance Pipeline L.P.

Description: § 4(d) Rate Filing: Tariff Notice Address Change Filing to be effective 1/14/2023.

Filed Date: 12/14/22.

Accession Number: 20221214-5075.

Comment Date: 5 p.m. ET 12/27/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 14, 2022.
Debbie-Anne A. Reese,
Deputy Secretary.

[FR Doc. 2022-27622 Filed 12-19-22; 8:45 am]

BILLING CODE 6717-01-P